DEPARTMENT OF HOMELAND SECURITY

U.S. Customs and Border Protection

New Date for the October 2019 Customs Broker's License Examination

AGENCY: U.S. Customs and Border Protection, Department of Homeland Security.

ACTION: General notice.

SUMMARY: This document announces that U.S. Customs and Border Protection has changed the date on which the semi-annual examination for an individual broker's license will be held in October 2019.

DATES: The customs broker's license examination scheduled for October 2019 will be held on Thursday, October 17, 2019.

FOR FURTHER INFORMATION CONTACT: Randy Mitchell, Director, Commercial Operations, Revenue and Entry, Office of Trade, (202) 325-6532, or brokermanagement@cbp.dhs.gov.

SUPPLEMENTARY INFORMATION:

Background

Section 641 of the Tariff Act of 1930, as amended (19 U.S.C. 1641), provides that a person (an individual, corporation, association, or partnership) must hold a valid customs broker's license and permit in order to transact customs business on behalf of others, sets forth standards for the issuance of brokers' licenses and permits, and provides for the taking of disciplinary action against brokers that have engaged in specified types of infractions. This section also provides that an examination may be conducted to assess an applicant's qualifications for a license.

The regulations issued under the authority of section 641 are set forth in Title 19 of the Code of Federal Regulations, part 111 (19 CFR 111). Part 111 sets forth the regulations regarding the licensing of, and granting of permits to, persons desiring to transact customs business as customs brokers. These regulations also include the qualifications required of applicants and the procedures for applying for licenses and permits. Section 111.11 of the CBP regulations (19 CFR 111.11) sets forth the basic requirements for a broker's license, and in paragraph (a)(4) of that section provides that an applicant for an individual broker's license must attain a passing grade (75 percent or higher) on a written examination.

Section 111.13 of the CBP regulations (19 CFR 111.13) sets forth the requirements and procedures for the written examination for an individual broker's license and states that written customs broker's license examinations will be given on the fourth Wednesday in April and October unless the regularly scheduled examination date conflicts with a national holiday, religious observance, or other foreseeable event.

Due to an unforeseen impediment to optimal conditions for administering the test, CBP has decided to change the regularly scheduled date of the examination. This document announces that CBP has scheduled the October 2019 customs broker's license examination for Thursday, October 17, 2019.

Dated: August 12, 2019.
Brenda B. Smith,
Executive Assistant Commissioner, Office of Trade.

[FR Doc. 2019-17780 Filed 8-16-19; 8:45 am]

BILLING CODE 9111-14-P